DEPARTMENT OF DEFENSE

Office of the Secretary

[Docket ID DOD-2017-OS-0033]

Proposed Collection; Comment Request

AGENCY: Pentagon Force Protection Agency, DoD.

ACTION: Notice.

SUMMARY: In compliance with the Paperwork Reduction Act of 1995, the Pentagon Force Protection Agency (PFPA) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 11, 2017.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Pentagon Force Protection Agency, 9000 Defense Pentagon, Suite 5B890, ATTN: Edwin R. Herchert, Washington, DC 20301-9000, or call 703-614-0002.

SUPPLEMENTARY INFORMATION: Title; Associated Form; and OMB Number: Computer Aided Dispatch and Record Management System (CAD/RMS); OMB Control Number 0704-0522.

Needs and Uses: The information collection requirement is necessary to obtain information regarding incidents that occur at the Pentagon and other facilities under the jurisdiction of the Pentagon Force Protection Agency.

Affected Public: Individuals or households.

Annual Burden Hours: 231.

Number of Respondents: 693.

Responses per Respondent: 1.

Annual Responses: 693.

Average Burden per Response: 20 minutes.

Frequency: On occasion.

All data collected in the Computer Aided Dispatch (CAD)/Record Management System (RMS) result from daily medical, criminal, and suspicious activities occurring at the Pentagon, and other facilities under the jurisdiction of the Pentagon Force Protection Agency, by security and law enforcement personnel directly involved in the incidents. Daily investigation of incidents and resulting information collection is accomplished by PFPA to provide force protection, security, and law enforcement to safeguard personnel, facilities, infrastructure, and other resources for the Pentagon Reservation and for assigned DoD activities and DoD-occupied facilities within the NCR. This data is collected only as incidents occur and the frequency is not under the control of any PFPA personnel. Information not relevant to the investigation of an incident is not collected. Information is collected only one time from the respondent following the incident.

Dated: July 7, 2017.
Aaron Siegel,
Alternate OSD Federal Register, Liaison Officer, Department of Defense.

[FR Doc. 2017-14609 Filed 7-11-17; 8:45 am]

BILLING CODE 5001-06-P